DEPARTMENT OF COMMERCE

National Oceanic and Atmospheric Administration

[I.D. 020602D]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 10-15, 2002. The Council meeting will begin on Tuesday, March 12, at 8 a.m., reconvening each day through Friday. All meetings are open to the public, except a closed session will be held from 8 a.m. until 9:30 a.m. on Tuesday, March 12 to address litigation and personnel matters. The Council will meet as late as necessary each day to complete its scheduled business.

ADDRESSES: The meetings and hearing will be held at the Red Lion Hotel Sacramento, 1401 Arden Way, Sacramento, CA 95815; telephone: (916) 922-8041.

Council address: Pacific Fishery Management Council, 7700 NE Ambassador Place, Suite 200, Portland, OR 97220.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions

2. Council Member Appointments

3. Roll Call

4. Executive Director's Report

5. Approve Agenda

6. Approve September and November 2001 Meeting Minutes

B. Salmon Management

1. NMFS Report

2. Final Review of Methodology Changes to the Klamath Ocean Harvest Model and Coho Fishery Regulation Assessment Model

3. Review of 2001 Fisheries and Summary of 2002 Stock Abundance Estimates

4. Inseason Management Recommendations for Openings Prior to May 1 off the Oregon Coast

5. Identification of Management Objectives and Preliminary Definition of 2002 Options

6. Council Recommendations for 2002 Management Option Analysis

7. Salmon Fishery Management Plan Amendment Scoping

8. Salmon Hearings Officers

9. Adoption of 2002 Management Options for Public Review

C. Habitat Issues: Essential Fish Habitat Issues

D. Marine Reserves

1. Status of Marine Reserves Proposals for Channel Islands National Marine Sanctuary

E. Pacific Halibut Management

1. NMFS Report

2. Report on International Pacific Halibut Commission Annual Meeting

3. Proposed 2002 Incidental Catch Regulations for the Troll Salmon and Fixed Gear Sablefish Fisheries

F. Groundfish Management

1. NMFS Report

2. Pacific Whiting Harvest Levels for 2002

3. Update on Revision of Amendment 12 - Rebuilding Plans

4. Groundfish Strategic Plan Implementation

5. Groundfish Fishery Management Plan Environmental Impact Statement

G. Highly Migratory Species Management

1. NMFS Report

2. Highly Migratory Species Fishery Management Plan

H. Coastal Pelagic Species Management

1. NMFS Report

2. Amendment 10

I. Administrative and Other Matters

1. Status of Legislation

2. Appointments to Advisory Bodies, Standing Committees, and Other Forums

3. Council's “Statement of Organization, Practices, and Procedures” and “Council Operating Procedures” Documents

4. Research and Data Needs Process

5. Report on Council Staff Retreat

6. Council Staff Work Load Priorities

7. April 2002 Council Meeting Agenda

SCHEDULE OF ANCILLARY MEETINGS

SUNDAY, MARCH 10, 2002

Klamath Fishery Management 2 p.m. Comstock 3 Room

MONDAY, MARCH 11, 2002

Council Secretariat 8 a.m. California Room

Scientific and Statistical Cmte 8 a.m. Comstock 2 Room

Salmon Advisory Subpanel 8 a.m. Sierra B Room

Salmon Technical Team 8 a.m. Sierra A Room

Habitat Steering Group 10 a.m. Comstock 1 Room

Klamath Fishery Management Council As Needed Comstock 3 Room

Tribal Policy Group As Needed Almanor Room 303

Tribal and Washington Technical Groups As Needed Shasta Room 305

Washington State Delegation As Needed Oroville Room 608

TUESDAY, MARCH 12, 2002

Council Secretariat 7 a.m. California Room

California State Delegation 7 a.m. Sierra B Room

Oregon State Delegation 7 a.m. Comstock 2 Room

Scientific and Statistical Cmte 8 a.m. Comstock 2 Room

Salmon Advisory Subpanel 8 a.m. Sierra B Room

Salmon Technical Team 8 a.m. Sierra A Room

Enforcement Consultants Immediately after Council session Tahoe Room 514

Washington State Delegation As Needed Oroville Room 608

Tribal Policy Group As Needed Almanor Room 303

Tribal and Washington Technical Groups As Needed Shasta Room 305

Klamath Fishery Management Council As Needed Comstock 3 Room

WEDNESDAY, MARCH 13, 2002

Council Secretariat 7 a.m. California Room

California State Delegation 7 a.m. Sierra B Room

Oregon State Delegation 7 a.m. Comstock 2 Room

Salmon Advisory Subpanel 8 a.m. Sierra B Room

Salmon Technical Team 8 a.m. Sierra A Room

Highly Migratory Species A.S. 8 a.m. Comstock 1 Room

Coastal Pelagic Species 10 a.m. Comstock 2 Room

Highly Migratory Species Team As Needed Klamath Room 513

Tribal Policy Group As Needed Needed Almanor Room 303

Tribal and Washington Technical Groups As Needed Shasta Room 305

Enforcement Consultants As Needed Tahoe Room 514

Klamath Fishery Management Council As Needed Comstock 3 Room

Washington State Delegation As Needed Oroville Room 608

THURSDAY, MARCH 14, 2002

Council Secretariat 7 a.m. California Room

California State Delegation 7 a.m. Sierra B Room

Oregon State Delegation 7 a.m. Comstock 2 Room

Salmon Advisory Subpanel 8 a.m. Sierra B Room

Salmon Technical Team 8 a.m. Sierra A Room

Washington State Delegation As Needed Needed Oroville Room 608

Tribal Policy Group As Needed Almanor Room 303

Tribal and Washington Technical Groups As Needed Shasta Room 305

Enforcement Consultants As Needed Tahoe Room 514

Klamath Fishery Management Council As Needed Comstock 3 Room

FRIDAY, MARCH 15, 2002

Council Secretariat 7 a.m. California Room

California State Delegation 7 a.m. Sierra B Room

Oregon State Delegation 7 a.m. Comstock 2 Room

Salmon Advisory Subpanel 8 a.m. Sierra B Room

Salmon Technical Team 8 a.m. Sierra A Room

Washington State Delegation As Needed Oroville Room 608

Tribal Policy Group As Needed Almanor Room 303

Tribal and Washington Technical Groups As Needed Shasta Room 305

Enforcement Consultants As Needed Tahoe Room 514

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: February 12, 2002.
Richard W. Surdi,
Acting Director, Office of Sustainable Fisheries, National Marine Fisheries Service.

[FR Doc. 02-3977 Filed 2-15-02; 8:45 am]

BILLING CODE 3510-22-S